ENVIRONMENTAL PROTECTION AGENCY

40 CFR Part 52

[EPA-R08-OAR-2007-0465; FRL-8453-4]

Approval and Promulgation of Air Quality Implementation Plans; State of Colorado; Revised Denver and Longmont Carbon Monoxide Maintenance Plans, and Approval of Related Revisions

AGENCY: Environmental Protection Agency (EPA).

ACTION: Proposed rule.

SUMMARY: EPA is proposing to take direct final action approving a State Implementation Plan (SIP) revision submitted by the State of Colorado. On September 25, 2006, the Governor's designee submitted revised maintenance plans for the Denver metropolitan and Longmont carbon monoxide (CO) maintenance areas for the CO National Ambient Air Quality Standard (NAAQS). These revised maintenance plans address maintenance of the CO standard for a second ten-year period beyond redesignation, extend the horizon years, and contain revised transportation conformity budgets. In addition, Regulation No. 11, “Vehicle Emission Inspection Program,” and Regulation No. 13, “Oxygenated Fuels Program,” are removed from Denver's and Longmont's revised CO maintenance plans. EPA is proposing approval of the revised Denver and Longmont CO maintenance plans, and the revised transportation conformity budgets. In addition, EPA is proposing to approve the removal of Regulation No. 11 and Regulation No. 13 from Denver's and Longmont's revised CO maintenance plans. This action is being taken under section 110 of the Clean Air Act.

In the “Rules and Regulations” section of this Federal Register, EPA is approving the State's SIP revision as a direct final rule without prior proposal because the Agency views this as a noncontroversial SIP revision and anticipates no adverse comments. A detailed rationale for the approval is set forth in the preamble to the direct final rule. If EPA receives no adverse comments, EPA will not take further action on this proposed rule. If EPA receives adverse comments, EPA will withdraw the direct final rule and it will not take effect. EPA will address all public comments in a subsequent final rule based on this proposed rule. EPA will not institute a second comment period on this action. Any parties interested in commenting must do so at this time. Please note that if EPA receives adverse comment on an amendment, paragraph, or section of the rule and if that provision may be severed from the remainder of the rule, EPA may adopt as final those provisions of the rule that are not the subject of an adverse comment.

DATES: Written comments must be received on or before September 17, 2007.

ADDRESSES: Submit your comments, identified by Docket ID No. EPA-R08-OAR-2007-0465, by one of the following methods:

• http://www.regulations.gov. Follow the on-line instructions for submitting comments.

• E-mail: videtich.callie@epa.gov and fiedler.kerri@epa.gov.

• Fax: (303) 312-6064 (please alert the individual listed in the FOR FURTHER INFORMATION CONTACT if you are faxing comments).

• Mail: Callie A. Videtich, Director, Air and Radiation Program, Environmental Protection Agency (EPA), Region 8, Mailcode 8P-AR, 1595 Wynkoop Street, Denver, Colorado 80202-1129.

• Hand Delivery: Callie A. Videtich, Director, Air and Radiation Program, Environmental Protection Agency (EPA), Region 8, Mailcode 8P-AR, 1595 Wynkoop Street, Suite 300, Denver, Colorado 80202-1129. Such deliveries are only accepted Monday through Friday, 8 a.m. to 4:30 p.m., excluding Federal holidays. Special arrangements should be made for deliveries of boxed information.

Please see the direct final rule which is located in the Rules section of this Federal Register for detailed instructions on how to submit comments.

FOR FURTHER INFORMATION CONTACT: Kerri Fiedler, Air and Radiation Program, Environmental Protection Agency (EPA), Region 8, Mailcode 8P-AR, 1595 Wynkoop Street, Denver, Colorado 80202-1129, phone (303) 312-6493, and e-mail at: fiedler.kerri@epa.gov.

SUPPLEMENTARY INFORMATION: See the information provided in the Direct Final action of the same title which is located in the Rules and Regulations section of this Federal Register.

Authority: 42 U.S.C. 7401 et seq.

Dated: July 30, 2007.
Kerrigan G. Clough,
Acting Regional Administrator, Region VIII.

[FR Doc. E7-16164 Filed 8-16-07; 8:45 am]

BILLING CODE 6560-50-P